FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 016976NF.

Name: Ajinomoto Logistics Corp. dba AB Logistics Co., Ltd.

Address: 3460 Torrance Blvd., #310.

Date Revoked: September 17, 2007.

Reason: Surrendered license voluntarily.

License Number: 018741F.

Name: Bruzzone Shipping Miami, LLC.

Address: 11421 NW 39th Street, Miami, FL 33178.

Date Revoked: September 23, 2007.

Reason: Failed to maintain a valid bond.

License Number: 019709NF.

Name: Customs & Logistics International Corp.

Address: 3054 NW 72nd Ave., Miami, FL 33122.

Date Revoked: September 22, 2007.

Reason: Failed to maintain valid bonds.

License Number: 018809N.

Name: El Al Moving Corp. dba Global Express.

Address: 200 Knuth Road, Ste. 214, Boynton Beach, FL 33436.

Date Revoked: September 13, 2007.

Reason: Surrendered license voluntarily.

License Number: 019884N.

Name: Embarque La Isla, Inc.

Address: 440 East 182nd Street, Bronx, NY 10457.

Date Revoked: September 23, 2007.

Reason: Failed to maintain a valid bond.

License Number: 004156F.

Name: Gulf Eagle USA, Inc.

Address: 7476 New Ridge Road, Hanover, MD 21076.

Date Revoked: September 16, 2007.

Reason: Failed to maintain a valid bond.

License Number: 016347N.

Name: Hana Worldwide Shipping Co., Inc.

Address: 533 Division Street, Elizabeth, NJ 07201.

Date Revoked: September 16, 2007.

Reason: Failed to maintain a valid bond.

License Number: 003229F.

Name: Levion Services, Inc.

Address: 3333 N. San Gabriel Blvd., #G, Rosemead, CA 91770.

Date Revoked: September 21, 2007.

Reason: Failed to maintain a valid bond.

License Number: 018750N.

Name: MSL Global Logistics Inc.

Address: 160-19 Rockaway Blvd., Jamaica, NY 11434.

Date Revoked: September 3, 2007.

Reason: Failed to maintain a valid bond.

License Number: 003650F.

Name: Oceanic Freights, Inc.

Address: 5804 Sedgefield Drive, Austin, TX 78746.

Date Revoked: September 5, 2007.

Reason: Surrendered license voluntarily.

License Number: 015776NF.

Name: Olympic Freight, Inc.

Address: 5803 Skylane Blvd., Ste. A-1, Windsor, CA 95492.

Date Revoked: September 6, 2007.

Reason: Failed to maintain valid bonds.

License Number: 017825N.

Name: Pacific-Net Logistics, Inc.

Address: 1255 Corporate Center Drive., Ste. PH-400, Monterey Park, CA 91754.

Date Revoked: July 8, 2007.

Reason: Failed to maintain a valid bond.

License Number: 018534N.

Name: Pacific-Net Logistics ATL, Inc.

Address: 6020 Dawson Blvd., Ste. F, Norcross, GA 30093.

Date Revoked: August 12, 2007.

Reason: Failed to maintain a valid bond.

License Number: 017709NF.

Name: Star Airfreight Co., Ltd.

Address: 149-35 177th Street, 21F, Jamaica, NY 11434.

Date Revoked: September 4, 2007.

Reason: Surrendered license voluntarily.

License Number: 017786NF.

Name: Star Airfreight Co., Ltd.

Address: 8901 S. La Cienega Blvd., Ste. 108, Inglewood, CA 90301.

Date Revoked: September 4, 2007.

Reason: Surrendered license voluntarily.

Sandra L. Kusumoto,
Director, Bureau of Certification and Licensing.

[FR Doc. E7-19561 Filed 10-2-07; 8:45 am]

BILLING CODE 6730-01-P